NATIONAL CREDIT UNION ADMINISTRATION

Sunshine Act Meeting

Time and Date: 10 a.m., Thursday, February 19, 2004.

Place: Board Room, 7th Floor, Room 7047, 1775 Duke Street, Alexandria, VA 22314-3428.

Status: Open.

Matters To Be Considered:

1. Request from a Federal Credit Union to Convert to a Community Charter.

2. Final Rule: Sections 701.20 and 741.2 of NCUA's Rules and Regulations, Suretyship and Guaranty; Maximum Borrowing Authority.

3. Final Rule: Part 708a of NCUA's Rules and Regulations, Conversion of Insured Credit Unions to Mutual Savings Bank

4. Interim Final Rule and Request for Comment: Part 745 of NCUA's Rules and Regulations, Share Insurance Coverage for Living Trust Accounts.

FOR FURTHER INFORMATION CONTACT: Becky Baker, Secretary of the Board, Telephone: 703-518-6304.

Becky Baker,
Secretary of the Board.

[FR Doc. 04-3483 Filed 2-12-04; 3:07 pm]

BILLING CODE 7535-01-M